DEPARTMENT OF ENERGY

Federal Energy Regulatory Commission

Combined Notice of Filings

Take notice that the Commission has received the following Natural Gas Pipeline Rate and Refund Report filings:

Filings Instituting Proceedings

Docket Numbers: RP22-1152-000.

Applicants: MarkWest Pioneer, L.L.C.

Description: § 4(d) Rate Filing: Quarterly Fuel Adjustment Filing to be effective 10/1/2022.

Filed Date: 8/26/22.

Accession Number: 20220826-5064.

Comment Date: 5 p.m. ET 9/7/22.

Docket Numbers: RP22-1153-000.

Applicants: Transcontinental Gas Pipe Line Company, LLC.

Description: § 4(d) Rate Filing: Negotiated Rates—Atlantic Sunrise—Chesapeake Energy Mktg to be effective 9/26/2022.

Filed Date: 8/26/22.

Accession Number: 20220826-5097.

Comment Date: 5 p.m. ET 9/7/22.

Docket Numbers: RP22-1154-000.

Applicants: Perryville Gas Storage LLC.

Description: § 4(d) Rate Filing: Perryville Gas Storage LLC Revisions to FERC Gas Tariff to be effective 9/27/2022.

Filed Date: 8/26/22.

Accession Number: 20220826-5101.

Comment Date: 5 p.m. ET 9/7/22.

Docket Numbers: RP22-1155-000.

Applicants: Northwest Pipeline LLC.

Description: Compliance filing: NWP 2022 Rate Case Stipulation and Settlement Filing to be effective N/A.

Filed Date: 8/26/22.

Accession Number: 20220826-5171.

Comment Date: 5 p.m. ET 9/7/22.

Docket Numbers: RP22-1156-000.

Applicants: Texas Eastern Transmission, LP.

Description: Compliance filing: 2022 Operational Entitlements Filing to be effective N/A.

Filed Date: 8/29/22.

Accession Number: 20220829-5049.

Comment Date: 5 p.m. ET 9/12/22.

Docket Numbers: RP22-1157-000.

Applicants: East Tennessee Natural Gas, LLC.

Description: § 4(d) Rate Filing: Negotiated Rate—Amended Oglethorpe 410464 to be effective 9/1/2022.

Filed Date: 8/29/22.

Accession Number: 20220829-5068.

Comment Date: 5 p.m. ET 9/12/22.

Docket Numbers: RP22-1158-000.

Applicants: Colorado Interstate Gas Company, L.L.C.

Description: Compliance filing: Operational Purchase and Sales Report 2022 to be effective N/A.

Filed Date: 8/29/22.

Accession Number: 20220829-5075.

Comment Date: 5 p.m. ET 9/12/22.

Docket Numbers: RP22-1159-000.

Applicants: Eastern Gas Transmission and Storage, Inc.

Description: § 4(d) Rate Filing: EGTS—August 30, 2022 Negotiated Rate Agreement to be effective 9/1/2022.

Filed Date: 8/30/22.

Accession Number: 20220830-5020.

Comment Date: 5 p.m. ET 9/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2022.
Debbie-Anne A. Reese,
Deputy Secretary.

[FR Doc. 2022-19136 Filed 9-2-22; 8:45 am]

BILLING CODE 6717-01-P